FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 23, 2018.

A. Federal Reserve Bank of Minneapolis (Mark A. Rauzi, Vice President) 90 Hennepin Avenue, Minneapolis, Minnesota 55480-0291:

1. The Lloyd A. Amundson 1999 Generational Trust, Sioux Falls, South Dakota, Trustees, Angela R. Mixner, Worthington, Minnesota & Matt W. Amundson, Hendricks, Minnesota; the Barbara A. Amundson 1999 Generational Trust, Sioux Falls, South Dakota, Trustees, Angela R. Mixner and Matt W. Amundson; and Jane A. Harberts, Rochester, Minnesota; to retain or acquire shares of First Sleepy Eye Bancorporation, Inc., Sioux Falls, South Dakota, and thereby acquire/retain shares of First Security Bank of Sleepy Eye, Sleepy Eye, Minnesota, and First Security Bank of Canby, Canby, Minnesota.

In addition, Philip G. Amundson, Sheridan, Wyoming, Krista B. Ryan, Byron, Minnesota; the B.A. Amundson Generational Trust fbo-Jane A. Harberts, Sioux Falls, South Dakota, Trustees, Jane A. Harberts and Krista B. Ryan; and the B.A. Amundson Generational Trust fbo-Philip G. Amundson, Sioux Falls, South Dakota, Trustees, Angela R. Mixner and Matt W. Amundson, acting in concert, have applied to acquire shares of First Sleepy Eye Bancorporation, Inc.

Board of Governors of the Federal Reserve System, January 30, 2018.
Ann E. Misback,
Secretary of the Board.

[FR Doc. 2018-02122 Filed 2-1-18; 8:45 am]

BILLING CODE P